DEPARTMENT OF COMMERCE

National Oceanic and Atmospheric Administration

RIN 0648-XA602

Marine Mammals; File No. 16109

AGENCY: National Marine Fisheries Service (NMFS), National Oceanic and Atmospheric Administration (NOAA), Commerce.

ACTION: Notice; issuance of permit amendment.

SUMMARY: Notice is hereby given that a major amendment to Permit No. 16109-02 has been issued to Versar, Inc. (formerly GeoMarine, Inc.) (Responsible Party: Susanne Bates), 700 International Parkway, Suite 104, Richardson, TX 75081.

ADDRESSES: The permit amendment and related documents are available for review upon written request or by appointment in the Permits and Conservation Division, Office of Protected Resources, NMFS, 1315 East-West Highway, Room 13705, Silver Spring, MD 20910; phone (301) 427-8401; fax (301) 713-0376.

FOR FURTHER INFORMATION CONTACT: Rosa L. González or Carrie Hubard, (301) 427-8401.

SUPPLEMENTARY INFORMATION: On February 11, 2014, notice was published in the Federal Register (79 FR 8159) that a request for an amendment Permit No. 16109-01 to conduct research on sea turtles and marine mammals had been submitted by the above-named applicant. The requested permit amendment has been issued under the authority of the Marine Mammal Protection Act of 1972, as amended (16 U.S.C. 1361 et seq.); the regulations governing the taking and importing of marine mammals (50 CFR part 216); the Endangered Species Act of 1973, as amended (ESA; 16 U.S.C. 1531 et seq.); and the regulations governing the taking, importing, and exporting of endangered and threatened species (50 CFR parts 222-226).

The amended permit (No. 16109-02), issued December 2, 2015, authorizes the following changes to the permit: (1) Extended the action area north and south to include all U.S. waters from Maine to Florida; (2) added aerial surveys to the research methods; (3) added takes for Blainville's beaked whales (Mesoplodon densirostris), false killer whales (Pseudorca crassidens), hawksbill (Eretmochelys imbricata), loggerhead (Caretta caretta), Kemp's ridley (Lepidochelys kempii), and green sea turtles (Chelonia mydas); (4) increased the number of marine mammals and sea turtles that could be harassed; and (5) changed the frequency of vessel based surveys from once per season to twice a month, year-round. The permit expires May 15, 2017.

An environmental assessment (EA) analyzing the effects of the permitted activities on the human environment was prepared in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on December 1, 2015.

As required by the ESA, issuance of this permit was based on a finding that such permit: (1) Was applied for in good faith; (2) will not operate to the disadvantage of such endangered species; and (3) is consistent with the purposes and policies set forth in section 2 of the ESA.

Dated: December 15, 2015.
Julia Harrison,
Chief, Permits and Conservation Division, Office of Protected Resources, National Marine Fisheries Service.

[FR Doc. 2015-31879 Filed 12-17-15; 8:45 am]

BILLING CODE 3510-22-P